NEIGHBORHOOD REINVESTMENT CORPORATION

Sunshine Act Meetings; Regular Board of Directors Meeting

TIME AND DATE: 2:00 p.m., Tuesday, October 15, 2019.

PLACE: NeighborWorks America—Gramlich Boardroom, 999 North Capitol Street NE, Washington, DC 20002.

STATUS: Open (with the exception of Executive Session).

MATTERS TO BE CONSIDERED: The General Counsel of the Corporation has certified that in his opinion, one or more of the exemptions set forth in 5 U.S.C. 552 (b)(2) and (4) permit closure of the following portion(s) of this meeting:

• Report from CEO

Agenda

I. Call to Order

II. Approval of Minutes

III. Executive Session: Report From CEO

IV. Discussion Item National NeighborWorks Association

V. Action Item LIFT 7.0 (2020)

VI. Action Item Western Region—Lease Renewal

VII. Action Item Auditor Rotation Policy

VIII. Discussion Item Non-Core Funds

IX. Discussion Item Audit Committee Report

X. Discussion Item Governance Working Group Report

XI. Discussion Item Health Insurance Delegation of Authority

XII. Discussion Item FY2020 Corporate Goals

XIII. Management Program Background and Updates

XIV. Adjournment

CONTACT PERSON FOR MORE INFORMATION: Rutledge Simmons, EVP & General Counsel/Secretary, (202) 760-4105; Rsimmons@nw.org.

Rutledge Simmons,
EVP & General Counsel/Corporate Secretary

[FR Doc. 2019-22301 Filed 10-8-19; 4:15 pm]

BILLING CODE 7570-02-P